SMALL BUSINESS ADMINISTRATION

Data Collection Available for Public Comments

ACTION: 60-day notice and request for comments.

SUMMARY: The Small Business Administration (SBA) intends to request approval, from the Office of Management and Budget (OMB) for the collection of information described in the SUPPLEMENTARY INFORMATION section.

DATES: Submit comments on or before February 13, 2017.

ADDRESSES: Send all comments to Brenda Fernandez, Program Analyst, Office of Government Contracting, Small Business Administration, 409 3rd Street, 7th Floor, Washington, DC 20416.

FOR FURTHER INFORMATION CONTACT: Brenda Fernandez, Analyst, (202) 205-7337, Brenda.Fernandez@sba.gov, or Curtis B. Rich, Management Analyst, (202)-205-7030, curtis.rich@sba.gov.

SUPPLEMENTARY INFORMATION: The Paperwork Reduction Act (PRA) of 1995, 44 U.S.C Chapter 35 requires federal agencies to publish a notice in the Federal Register concerning each proposed collection of information before submission to OMB, and to allow 60 days for public comment in response to the notice. This notice complies with that requirement.

This form is used by SBA Government Contracting Area Office for size protest and size determinations, and program offices to assist in determining eligibility for small business programs.

Title: Information for Small Business Size Determination

Description of Respondents: Size Standards Determination requirements for Small Business Eligible Companies.

SBA Form No: 355.

Total Estimated Annual Responses: 575.

Total Estimated Annual Hour Burden: 2,300.

Curtis Rich,
Management Analyst.

[FR Doc. 2016-29923 Filed 12-13-16; 8:45 am]

BILLING CODE P